FEDERAL MARITIME COMMISSION

[DOCKET NO. 23-14]

Notice of Filing of Amended Complaint and Assignment; D.F. Young, Inc., Complainant v. Wallenius Wilhelmsen Logistics AS, n/k/a Wallenius Wilhelmsen Ocean AS, and Wallenius Wilhelmsen Logistics Americas, LLC, Respondents

Served: February 6, 2024.

Notice is given that an amended complaint has been filed with the Federal Maritime Commission (the “Commission”) by D.F. Young, Inc. (the “Complainant”) against Wallenius Wilhelmsen Logistics AS, n/k/a Wallenius Wilhelmsen Ocean AS, and Wallenius Wilhelmsen Logistics Americas, LLC (the “Respondents”). Complainant states that the Commission has jurisdiction over the amended complaint pursuant to 46 U.S.C. 41301, et seq. and pursuant to 46 U.S.C. 40904, 41102, and 41104 and 46 CFR 515.42.

Complainant is a corporation organized and existing under the laws of the Commonwealth of Pennsylvania with a principal place of business in Berwyn, Pennsylvania.

Complainant identifies Respondent Wallenius Wilhelmsen Logistics AS, n/k/a Wallenius Wilhelmsen Ocean AS (WWL Ocean) as a Norwegian corporation or other business entity with a principal place of business in Lysaker, Norway.

Complainant identifies Respondent Wallenius Wilhelmsen Logistics Americas, LLC (WWL Americas) as a corporation organized and existing under the laws of the State of Delaware with a place of business in Parsippany, New Jersey.

Complainant alleges that Respondents violated 46 U.S.C. 41102, 40501, 40904 and 46 CFR 515.42 by refusing to compensate for freight forwarding services on shipments of automobiles in accordance with the terms of the applicable tariff following demand for such compensation.

An answer to the amended complaint must be filed with the Commission within 25 days after the date of service.

The full text of the amended complaint can be found in the Commission's electronic Reading Room at https://www2.fmc.gov/readingroom/proceeding/23-14/. This proceeding has been assigned to the Office of Administrative Law Judges. The initial decision of the presiding judge shall be issued by December 13, 2024, and the final decision of the Commission shall be issued by June 27, 2025.

David Eng,
Secretary.

[FR Doc. 2024-02768 Filed 2-9-24; 8:45 am]

BILLING CODE 6730-02-P